NUCLEAR REGULATORY COMMISSION

10 CFR Part 72

[NRC-2023-0085]

RIN 3150-AK99

List of Approved Spent Fuel Storage Casks: NAC International, Inc. MAGNASTOR® Storage System, Certificate of Compliance No. 1031, Amendment Nos. 11 and 12 and Revisions to Amendment Nos. 0 Through 9

AGENCY: Nuclear Regulatory Commission.

ACTION: Direct final rule; confirmation of effective date.

SUMMARY: The U.S. Nuclear Regulatory Commission (NRC) is confirming the effective date of October 16, 2023, for the direct final rule that was published in the Federal Register on July 31, 2023. This direct final rule amended its spent fuel storage regulations by revising the NAC International, Inc. MAGNASTOR® Storage System listing within the “List of approved spent fuel storage casks” to include Amendment Nos. 11 and 12 and revisions to Amendment Nos. 0 through 9 to Certificate of Compliance No. 1031.

DATES: The effective date of October 16, 2023, for the direct final rule published July 31, 2023 (88 FR 49267), is confirmed.

ADDRESSES: Please refer to Docket ID NRC-2023-0085 when contacting the NRC about the availability of information for this action. You may obtain publicly available information related to this action by any of the following methods:

• Federal Rulemaking Website: Go to https://www.regulations.gov and search for Docket ID NRC-2023-0085. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The proposed certificates of compliance, the proposed changes to the technical specifications, and the preliminary safety evaluation reports are available in ADAMS under Accession No. ML22220A149. The final certificates of compliance, the final changes to the technical specifications, and the final safety evaluation reports are available in ADAMS under Accession No. ML23250A323.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time, Monday through Friday, except Federal holidays.

FOR FURTHER INFORMATION CONTACT: Bernard White, Office of Nuclear Materials Safety and Safeguards, telephone: 301-415-6577, email: Bernard.White@nrc.gov and Irene Wu, Office of Nuclear Materials Safety and Safeguards, telephone: 301-415-1951, email: Irene.Wu@nrc.gov. Both are staff of the U.S. Nuclear Regulatory Commission, Washington, DC 20555-0001.

SUPPLEMENTARY INFORMATION: On July 31, 2023 (88 FR 49267), the NRC published a direct final rule amending its regulations in part 72 of title 10 of the Code of Federal Regulations to include Amendment Nos. 11 and 12 and revisions to Amendment Nos. 0 through 9 to Certificate of Compliance No. 1031. Amendment No. 11 revises the certificate of compliance to add a new concrete cask, transfer cask, fuel baskets and revised contents. Amendment No. 11 also adds a definition for the concrete cask lid, clarifies the definition for the concrete cask to exclude the lid, clarifies the definition of storage cask, and provides alternate fabrication criteria and techniques for the concrete cask lid. Amendment No. 12 and revisions to Amendment Nos. 0 through 9 add definitions for the storage cask and concrete cask lid, revise the definition of the concrete cask, and provide alternate fabrication criteria and techniques for the concrete cask lid to the certificate of compliance.

In the direct final rule, the NRC stated that if no significant adverse comments were received, the direct final rule would become effective on October 16, 2023. The NRC did not receive any comments on the direct final rule. Therefore, this direct final rule will become effective as scheduled.

Dated: September 13, 2023.
For the Nuclear Regulatory Commission.
Cindy K. Bladey,
Chief, Regulatory Analysis and Rulemaking Support Branch, Division of Rulemaking, Environmental, and Financial Support Office of Nuclear Material Safety and Safeguards.

[FR Doc. 2023-20173 Filed 9-18-23; 8:45 am]

BILLING CODE 7590-01-P